DEPARTMENT OF ENERGY

Federal Energy Regulatory Commission

[ Project No. 2696-033]

Albany Engineering Corporation, Town of Stuyvesant, NY; Notice of Site Visit and Technical Meeting

On July 12, 2011, Office of Energy Projects staff will participate in a site visit and technical meeting for the Stuyvesant Falls Hydroelectric Project (FERC No. 2696-033). The purpose of the site visit and technical meeting is to discuss the parameters of an Instream Flow Incremental Methodology study to be conducted for the Stuyvesant Falls Hydroelectric Project relicensing.

The site visit will begin at 9 a.m. E.S.T at Stuyvesant Falls Town Park (Sandbar Park) below Stuyvesant Falls dam. The technical meeting will begin at 12 p.m. E.S.T at the Town of Stuyvesant Town Hall, 5 Sunset Drive, Stuyvesant, NY 12173. Interested parties wishing to attend should contact Andy Bernick at (202) 502-8660, or via e-mail at andrew.bernick@ferc.gov.

Dated: June 23, 2011.
Kimberly D. Bose,
Secretary.

[FR Doc. 2011-16473 Filed 6-29-11; 8:45 am]

BILLING CODE 6717-01-P